DEPARTMENT OF THE INTERIOR

Fish and Wildlife Service

[FWS-R4-ES-2010-N088; 41910-1112-0000-F2]

Endangered [and Threatened] Wildlife and Plants; Permit(s); Land Clearing Associated With Phosphate Mining in Manatee County, FL

AGENCY: Fish and Wildlife Service, Interior.

ACTION: Notice of receipt of application for an incidental take permit (ITP); availability of proposed low-effect habitat conservation plans (HCP); request for comment/information.

SUMMARY: We, the Fish and Wildlife Service (Service), announce the availability of an incidental take permit (ITP) application and habitat conservation plan (HCP). Mosaic Fertilizer, LLC (applicant) requests a 24-year ITP under the Endangered Species Act of 1973, as amended (Act). The applicant anticipates taking approximately 75 acres (ac) of Florida scrub-jay (Aphelocoma coerulescens)-occupied habitat incidental to land clearing and phosphate mining in Manatee County, Florida (project). The applicant's HCP describes the mitigation and minimization measures the applicant proposes to address the effects of the project to the Florida scrub-jay.

DATES: We must receive any written comments on the ITP application and HCP on or before August 5, 2010.

ADDRESSES: If you wish to review the application and HCP, you may write the Field Supervisor at our Jacksonville Field Office, 7915 Baymeadows Way, Suite 200, Jacksonville, FL 32256 or make an appointment to visit during normal business hours. If you wish to comment, you may mail or hand deliver comments to the Jacksonville Field Office, or you may e-mail comments to erin_gawera@fws.gov. For more information on reviewing documents and public comments and submitting comments, see SUPPLEMENTARY INFORMATION.

FOR FURTHER INFORMATION CONTACT: Erin Gawera, Fish and Wildlife Biologist, Jacksonville Field Office (see ADDRESSES); telephone: 904/731-3121.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE236128-0 for Mosaic Fertilizer, LLC in all requests or comments. If you do not receive a confirmation from us that we have received your e-mail message, contact us directly at the telephone number listed under FOR FURTHER INFORMATION CONTACT.

Background

The Florida scrub-jay (scrub-jay) is found exclusively in peninsular Florida and is restricted to xeric upland communities (predominately in oak-dominated scrub with open canopies) of the interior and Atlantic coast sand ridges. Increasing urban and agricultural development has resulted in habitat loss and fragmentation, which have adversely affected the distribution and numbers of scrub-jays. Remaining habitat is largely degraded due to the exclusion of fire, which is needed to maintain xeric uplands in conditions suitable for scrub-jays. The total estimated population is between 7,000 and 11,000 individuals.

Applicant's Proposal

The applicant is requesting take of approximately 75 ac of occupied Florida scrub-jay habitat incidental to the project. The 4,345-ac project is located on the Texaco Tract in Sections 22-27, 34, and portions of Section 13, Township 34 South, Range 22 East, in Manatee County, Florida. The proposed project includes land clearing activities associated with phosphate mining which will result in the take of 75 ac of occupied scrub-jay habitat, including three scrub-jay families. The applicant proposes to mitigate for the take of the Florida scrub-jay at a ratio of 2:1 based on Service Mitigation Guidelines. The applicant proposes to mitigate for 75 ac of impacts by establishing a conservation easement capturing 150 ac of scrub-jay within the Mosaic Wellfield.

We have determined that the applicant's proposal, including the proposed mitigation and minimization measures, would have minor or negligible effects on the species covered in the HCP. Therefore, we are making a preliminary determination that the ITP is a “low-effect” project and qualifies for categorical exclusion under the National Environmental Policy Act (NEPA; 42 U.S.C. 4321 et seq.), as provided by the Department of the Interior Manual (516 DM 2 Appendix 1 and 516 DM 6 Appendix 1). We may revise this preliminary determination based on our review of public comments we receive in response to this notice. A low-effect HCP is one involving (1) Minor or negligible effects on federally listed or candidate species and their habitats, and (2) minor or negligible effects on other environmental values or resources.

We will evaluate the HCP and comments we receive to determine whether the ITP application meets the requirements of section 10(a) of the Act (16 U.S.C. 1531 et seq.). If we determine that the application meets those requirements, we will issue the ITP for incidental take of the sand skink. We will also evaluate whether issuance of the section 10(a)(1)(B) ITP complies with section 7 of the Act by conducting an intra-Service section 7 consultation. We will use the results of this consultation, in combination with the above findings, in our final analysis to determine whether or not to issue the ITP.

Authority

We provide this notice under Section 10 of the Act and NEPA regulations in the Code of Federal Regulations (CFR) at 40 CFR 1506.6.

Dated: June 4, 2010.
David L. Hankla,
Field Supervisor, Jacksonville Field Office.

[FR Doc. 2010-16217 Filed 7-2-10; 8:45 am]

BILLING CODE 4310-55-P